DEPARTMENT OF HEALTH AND HUMAN SERVICES

Administration for Children and Families

Agency Recordkeeping/Reporting Requirements Under Emergency Review by the Office of Management and Budget (OMB)

Title: TANF Quarterly Financial Report, ACF-196.

OMB No.: 0970-0247.

Description: This information collection is authorized under Section 411(a)(3) of the Social Security Act. This request is for revision of approval to use the Administration for Children and Families' (ACF) 196 form for periodic financial reporting under the Temporary Assistance for Needy Families (TANF) program. States participating in the TANF program are required by statute to report financial data on a quarterly basis. This form meets the legal standard and provides essential data on the use of Federal funds. Failure to collect the data would seriously compromise ACF's ability to monitor program expenditures, estimate funding needs, and to prepare budget submissions required by Congress. Financial reporting under the TANF program is governed by 45 CFR part 265. This renewal restores columns for reporting Emergency Contingency Fund and Supplemental Grant expenditures.

Respondents: TANF Agencies.

Annual Burden Estimates
Instrument | Number of respondents | Number of responses per respondent | Average burden hours per response | Total burden hours
ACF-196 | 51 | 4 | 10 | 2040

Estimated Total Annual Burden Hours: 2040.

Additional Information

ACF is requesting that OMB grant a 180 day approval for this information collection under procedures for emergency processing by March 15, 2013. A copy of this information collection, with applicable supporting documentation, may be obtained by emailing the Administration for Children and Families, Reports Clearance Officer: rsargis@acf.hhs.gov.

Comments and questions about the information collection described above should be directed to the Office of Information and Regulatory Affairs, Attn: OMB Desk Officer for ACF, Office of Management and Budget, Paperwork Reduction Project; 725 17th Street NW., Washington, DC 20503; FAX: (202) 395-7285; email: oira_submission@omb.eop.gov.

Robert Sargis,
Reports Clearance Officer.

[FR Doc. 2013-04826 Filed 3-1-13; 8:45 am]

BILLING CODE 4184-01-P